DEPARTMENT OF AGRICULTURE

Animal and Plant Health Inspection Service

7 CFR Part 319

[Docket No. 02-032-1]

Environmental Impact Statement for the Importation of Wood Packaging Material

AGENCY: Animal and Plant Health Inspection Service, USDA.

ACTION: Notice of intent to prepare an environmental impact statement, scope of study, and notice of public meetings.

SUMMARY: We are advising the public that the Animal and Plant Health Inspection Service intends to prepare an environmental impact statement in connection with regulations we are considering regarding the importation of wood packaging material. This notice identifies potential alternatives and issues that we plan to examine in the environmental impact statement, requests public comment to further delineate the scope of the alternatives and issues, and provides notice of public meetings.

DATES: We will consider all comments that we receive on or before September 13, 2002. We will also consider comments made at public hearings that will be held in Washington, DC, on September 3, 2002, beginning at 10 a.m., and in Long Beach, CA, on September 5, 2002, beginning at 1 p.m. and again at 7 p.m. (two sessions).

ADDRESSES: You may submit comments by postal mail/commercial delivery or by e-mail. If you use postal mail/commercial delivery, please send four copies of your comment (an original and three copies) to: Docket No. 02-032-1, Regulatory Analysis and Development, PPD, APHIS, Station 3C71, 4700 River Road Unit 118, Riverdale, MD 20737 1238. Please state that your comment refers to Docket No. 02-032-1. If you use e-mail, address your comment to regulations@aphis.usda.gov. Your comment must be contained in the body of your message; do not send attached files. Please include your name and address in your message and “Docket No. 02-032-1” on the subject line.

The September 3, 2002, public hearing will be held at the USDA South Building, Jefferson Auditorium, 14th Street and Independence Avenue SW., Washington, DC. The September 5, 2002, public hearing will be held at the Hilton of Long Beach, 701 West Ocean Blvd., Long Beach, CA.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Harold Smith, Environmental Protection Officer, Environmental Services, PPD, APHIS, 4700 River Road, Unit 149, Riverdale, MD 20737-1238; (301) 734-6742.

SUPPLEMENTARY INFORMATION: The Animal and Plant Health Inspection Service is planning to amend its regulations on the importation of logs, lumber, and other unmanufactured wood articles to decrease the risk of wood packaging material (e.g., crates, dunnage, wooden spools, pallets, and packing blocks) introducing exotic plant pests into the United States. Under the provisions of the National Environmental Policy Act of 1969 (NEPA), as amended (42 U.S.C. 4321 et seq.), we are required to consider the potential environmental effects of our proposed actions and alternatives. The purpose of this notice is to inform the public of our intent to prepare an environmental impact statement (EIS), to advise the public of the schedule for two public meetings, and to solicit public comments on the scope of the environmental issues to be examined in the EIS.

The regulations in 7 CFR 319.40-1 through 319.40-11 (referred to below as the regulations) are intended to mitigate the plant pest risk presented by the importation of logs, lumber, and other unmanufactured wood articles, including wood packaging material (WPM). Introductions into the United States of exotic plant pests such as the pine shoot beetle and the Asian longhorned beetle have been linked to the importation of WPM. Recently, the emerald ash borer has been found in five counties in Michigan. These and other plant pests that could be carried by imported WPM pose a serious threat to U.S. agriculture and to natural, cultivated, and urban forests.

In 1998, we took regulatory action to require that WPM from China be heat treated, fumigated, or treated with preservatives prior to arrival in the United States. This action has decreased interceptions of pests associated with WPM from China. However, since then, a number of factors, including increased international trade, additional interceptions of serious exotic plant pests in WPM from other countries, and the adoption by the International Plant Protection Convention (IPPC) of international standards to mitigate pest risk from WPM, have demonstrated the need for the United States to take further measures to mitigate the pest risk from WPM from other countries.

In addition to establishing the necessary framework for protecting U.S. agriculture and forests, we must give full consideration to harmonizing our regulations with the new international standards (the “International Standards for Phytosanitary Measures—Guidelines for Regulating Wood Packaging Materials in International Trade,” Publication 15 of the Secretariat of the IPPC of the Food and Agriculture Organization of the United Nations, Rome, Italy, 2002).

The continually increasing risk of invasive exotic plant pest species imparts a degree of urgency to our development of regulations to mitigate risk from the importation of WPM. Therefore, our rulemaking and environmental processes are being undertaken at an accelerated rate. This is entirely consistent with regulations implementing NEPA (40 CFR 1501.8(b)). We anticipate that the proposed rule we publish will provide advance notice to industry of specific regulatory requirements that may be made final and implemented within 30 days of the publication of a final rule.

We are requesting public comment to help us identify and/or confirm potential alternatives and environmental issues that should be examined in the EIS. We have identified five broad alternatives that we plan to consider in the EIS, as follows:

• Take no action. This would be characterized as no change in the existing regulations that apply to the importation of WPM (while not contributing to the further mitigation of risk, the analysis of the no action alternative provides a baseline and is required by NEPA and its implementing regulations);

• Apply the same requirements concerning WPM from China to WPM from the rest of the world (i.e., require WPM imported from any part of the world to be heat treated, fumigated, or treated with preservatives prior to arrival in the United States);

• Implement a comprehensive risk reduction program (more expansive than the regulations currently applying to China or provided for under the new international standards). This would be categorized as a broad risk mitigation strategy that involves various options such as increased inspection, heat treatment, fumigation, wood preservatives, irradiation, controlled atmosphere, selective prohibition, and disposal;

• Adopt the new international standards and apply their methods (heat treatment at 56 °C for 30 minutes, fumigation with methyl bromide, and marking of WPM) to all countries; and

• Require the use of substitute materials that are not hosts of plant pests or diseases (e.g., metal, rubber, or fiberglass).

We will examine the potential effects on the human environment of each alternative. We also are interested in comments that identify other issues that should be examined in the EIS. Potential issues could include new treatment methods, logistical considerations, environmental regulations and constraints, and harmonization of regulatory efforts.

Comments regarding the proposed scope of the EIS are welcome and will be considered fully. When the draft EIS is completed, a notice announcing its availability and an invitation to comment on it will be published in the Federal Register.

Done in Washington, DC, this 8th day of August 2002.
Peter Fernandez,
Acting Administrator, Animal and Plant Health Inspection Service.

[FR Doc. 02-20523 Filed 8-13-02; 8:45 am]

BILLING CODE 3410-34-P